DEPARTMENT OF TRANSPORTATION

Federal Aviation Administration

14 CFR Part 71

[Docket No. FAA-2019-0729; Airspace Docket No. 19-AGL-12]

RIN 2120-AA66

Amendment of Air Traffic Service (ATS) Routes V-82, V-217, and T-383 in the Vicinity of Baudette, MN

AGENCY: Federal Aviation Administration (FAA), DOT.

ACTION: Final rule, delay of effective date.

SUMMARY: This action changes the effective date of a final rule published in the Federal Register on February 21, 2020, amending VHF Omnidirectional Range (VOR) Federal airways V-82 and V-217, and area navigation (RNAV) route T-383 in the vicinity of Baudette, MN. The ATS route amendments were due to the planned decommissioning of the Baudette VOR. The FAA is delaying the effective date to coincide with the expected completion of the Minnesota Department of Transportation (DOT) purchase and flight check of a new Distance Measuring Equipment (DME) facility to support the Instrument Landing System (ILS) or Localizer (LOC) Approach to Runway (RWY) 31 instrument approach procedure, which is affected by the loss of the Baudette VOR, at Warroad International Memorial Airport, MN.

DATES: The effective date of the final rule published on February 21, 2020 (85 FR 10054) is delayed until September 10, 2020. The Director of the Federal Register approved this incorporation by reference action under Title 1 Code of Federal Regulations part 51, subject to the annual revision of FAA Order 7400.11 and publication of conforming amendments.

FOR FURTHER INFORMATION CONTACT: Colby Abbott, Rules and Regulations Group, Office of Policy, Federal Aviation Administration, 800 Independence Avenue SW, Washington, DC 20591; telephone: (202) 267-8783.

SUPPLEMENTARY INFORMATION:

Background

The FAA published a final rule in the Federal Register for Docket No. FAA-2019-0729 (85 FR 10054, February 21, 2020), amending VOR Federal airways V-82 and V-217, and RNAV route T-383 in the vicinity of Baudette, MN. The effective date for that final rule is May 21, 2020. However, the decommissioning of the Baudette, MN, VOR has a direct impact on the ILS or LOC RWY 31 instrument approach procedure at Warroad International Memorial Airport, MN, because the DME required for this procedure is out of service.

The Minnesota DOT is currently in the process of purchasing new DME equipment to install at the Warroad International Memorial Airport, MN. Upon purchase and installation of the new equipment, Minnesota DOT has committed to have the required Flight Inspection completed and the DME certified for use by September 10, 2020; therefore, the rule amending V-82, V-217, and T-383 is delayed to coincide with that date.

VOR Federal airways are published in paragraph 6010(a) and RNAV T-routes are published in paragraph 6011 of FAA Order 7400.11D dated August 8, 2019, and effective September 15, 2019, which is incorporated by reference in 14 CFR 71.1. The VOR Federal airways and RNAV T-route listed in this document will be subsequently published in the Order.

FAA Order 7400.11, Airspace Designations and Reporting Points, is published yearly and effective on September 15.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.”

Delay of Effective Date

Accordingly, pursuant to the authority delegated to me, the effective date of the final rule, Airspace Docket 19-AGL-12, as published in the Federal Register on February 21, 2020 (85 FR 10054), FR Doc. 2020-03282, is hereby delayed until September 10, 2020.

Authority: 49 U.S.C. 106(f), 106(g); 40103, 40113, 40120; E.O. 10854, 24 FR 9565, 3 CFR, 1959-1963 Comp., P. 389.

Issued in Washington, DC, on March 11, 2020.
Scott M. Rosenbloom,
Acting Manager, Rules and Regulations Group.

[FR Doc. 2020-05859 Filed 3-23-20; 8:45 am]

BILLING CODE 4910-13-P